DEPARTMENT OF THE INTERIOR

Fish and Wildlife Service

[FWS-R6-2011-N223; FF06R06000-FXRS1265066CCP0S2-123]

Final Comprehensive Conservation Plan for the Bowdoin National Wildlife Refuge Complex

AGENCY: Fish and Wildlife Service, Interior.

ACTION: Notice of availability.

SUMMARY: We, the U.S. Fish and Wildlife Service (Service) announce that our Final Comprehensive Conservation Plan (Plan) and finding of no significant impact (FONSI) for the Bowdoin National Wildlife Refuge Complex (refuge complex) is available. This final Plan describes how the Service intends to manage this refuge complex for the next 15 years.

ADDRESSES: A copy of the Plan may be obtained by writing to U.S. Fish and Wildlife Service, Division of Refuge Planning, P.O. Box 25486, Denver Federal Center, Denver, CO 80225; or by download from http://mountain-prairie.fws.gov/planning.

FOR FURTHER INFORMATION CONTACT: Laura King, (406) 644-2211, ext. 210 (phone); (406) 644-2661 (fax); or bowdoin@fws.gov (email).

SUPPLEMENTARY INFORMATION: The 84,724-acre Bowdoin National Wildlife Refuge Complex is part of the National Wildlife Refuge System. It is located in the mixed-grass prairie region of north-central Montana, within an area known as the prairie pothole region. The refuge complex oversees management of five national wildlife refuges: Bowdoin National Wildlife Refuge and four unstaffed satellite refuges—Black Coulee, Creedman Coulee, Hewitt Lake, and Lake Thibadeau National Wildlife Refuges. In addition, the refuge complex also manages the four-county Bowdoin Wetland Management District (district), which has nine waterfowl production areas in Blaine, Hill, Phillips, and Valley. While the five national wildlife refuges and the wetland management district were established under different authorities, they all have the overriding purpose of providing migration, nesting, resting, and feeding habitat for migratory birds in their wetlands and uplands. The four satellite refuges have both fee-title and private lands within their boundaries. The private lands are encumbered by refuge and flowage easements giving the Service the right to impound water, control the uses that occur on that water, and control any hunting and trapping. Access to these privately owned areas is by landowner permission only.

The refuge complex provides opportunities for the public to enjoy compatible wildlife-dependent public-use activities including hunting, limited fishing, wildlife observation, photography, environmental education, and interpretation. A full-time staff of five and various temporary employees manage and study refuge habitats and maintain visitor facilities. Domestic livestock grazing, prescribed fire, and haying are the primary management tools used to maintain and enhance upland habitats. Water level manipulation is used to improve wetland habitats and invasive and non-native plant species are controlled and eradicated. Large, intact, native prairie communities can still be found throughout the refuge complex providing nesting habitat for over 29 species of resident and migratory birds. Native grazers such as pronghorn, white-tailed deer, and mule deer browse and graze the uplands. Four wetland classes are found on the refuge complex: Temporary, seasonal, semipermanent, and permanent. These wetland classes are either freshwater or saline. There are more than 10,000 acres of wetlands in the refuge complex. These wetlands have a diverse distribution of sizes, types, locations, and associations. As part of the central flyway, this concentration of wetlands attracts thousands of migrating shorebirds and waterfowl to the refuge complex.

Approximately 25,000 people visit the refuge complex annually. A 15-mile interpreted auto tour route and nature trail on the Bowdoin National Wildlife Refuge are two of the most popular activities. Fishing is only open on McNeil Slough and Beaver Creek WPAs. The remaining complex waters do not support a sport fishery due high salinity levels or shallow water depth. Excluding Holm WPA, the remaining complex is open to limited hunting of waterfowl and upland game birds. The four satellite refuges (with landowner permission) and remaining eight WPAs are also open to big game hunting, subject to State regulations and seasons.

The draft Plan and environmental assessment (EA) was made available to the public for review and comment following the announcement in the Federal Register on June 22, 2011 (76 FR 36571-36571). The public was given until July 25, 2011, to comment and a public meeting was held in Malta on June 29, 2011. More than 20 individuals and groups provided written comments and appropriate changes were made to the final plan. The draft CCP and final EA included the analyses of three different sets of alternatives including three alternatives for managing the refuge complex, two alternatives to evaluate the divestiture of Lake Thibadeau, and five alternatives for addressing the salinity and blowing salts issue on Bowdoin National Wildlife Refuge. The Region 6 Regional Director selected Alternative B for overall refuge management and the proposed divestiture of Lake Thibadeau and Alternative 4 for addressing the salinity and blowing salts issue. These preferred alternatives will serve as the final plan.

The final plan identifies goals, objectives, and strategies that describe the future management of the Bowdoin National Wildlife Refuge Complex. Alternative B for Lake Thibadeau National Wildlife Refuge recommends divestiture. The Service owns less than 1 percent of the lands within the 3,868-acre approved acquisition boundary; the remaining area is private lands encumbered by refuge and flowage easements. These easements give the Service the right to manage the impoundments and the uses that occur on that water and to control hunting and trapping, but these easements do not prohibit development, grazing, or agricultural uses. Due to upstream development in the watershed, the impoundments do not receive adequate water supplies and are often dry enough to be farmed; the surrounding upland areas are also farmed or heavily grazed.

This loss or lack of habitat has resulted in the Service's recommendation to divest this refuge. For the remaining refuge complex lands, Alternative B proposes to conserve natural resources by restoring, protecting, and enhancing native mixed-grass prairie and maintaining high-quality wetland habitat for target migratory and resident birds. Invasive and nonnative plants that are causing habitat losses and fragmentation would be controlled or eradicated, including Russian olive trees. Research would be conducted to control crested wheatgrass and restore treated areas. Enhanced wetlands would be managed to mimic natural conditions for wetland-dependent migratory.

Visitor services programs would be enhanced, providing additional opportunities for staff- and volunteer-led. A sanctuary area would be created for waterfowl on the east side of the Bowdoin National Wildlife Refuge closing this area to all foot traffic during the hunting season. A new wildlife observation site would be added on the auto tour route. The Service would work with the State to determine the feasibility of offering a big game hunt at Bowdoin Refuge. The success of all of these additional efforts and programs would depend on added staff, research, and monitoring programs, including additional funding, infrastructure, and new and expanded partnerships.

Alternative 4 was chosen as the preferred alternative for addressing the salinity and blowing salts issue, improving plant and animal diversity. An underground injection well, possibly more than 6,000 feet, would be used to force saline water deep into the ground. An annual withdrawal of 800 acre-feet of water would be required to maintain the salt balance, assuming all water and salt inputs remained consistent with past inputs. Once the salinity objective of 7,000 mg/L was met and water in Lake Bowdoin met all applicable water quality standards, modifications to the lake's infrastructure would be evaluated to determine the best way to re-create a flow-through system that maximized the effects of natural flooding. If natural flooding did not occur or more water to be supplied from the Milk River was not granted, the injection well could be used periodically to maintain salinity at an acceptable level. It is estimated that it will take 10-20 years to achieve the salinity and water quality objectives. Throughout this process, the Service will also work with partners to determine how to best minimize salt inputs into the refuge.

The Service is furnishing this notice to advise other agencies and the public of the availability of the final Plan, to provide information on the desired conditions for the refuge complex and to detail how the Service will implement management strategies. Based on the review and evaluation of the information contained in the EA, the Regional Director has determined that implementation of the Final Plan does not constitute a major Federal action that would significantly affect the quality of the human environment within the meaning of section 102(2)(c) of the National Environmental Policy Act. Therefore, an Environmental Impact Statement will not be prepared.

Dated: December 23, 2011.
Noreen Walsh,
Deputy Regional Director.

Editorial Note: This document was received at the Office of the Federal Register on May 24, 2012.

[FR Doc. 2012-13011 Filed 5-29-12; 8:45 am]

BILLING CODE 4310-55-P